DEPARTMENT OF HOUSING AND URBAN DEVELOPMENT

[Docket No.FR-5044-N-12]

Notice of Submission of Proposed Information Collection to OMB: Contract for Inspection Services-Turnkey

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal. Information is used by the PHA to obtain professional architectural services to assist in the administration of a construction contract and to inspect the installation of the work.

DATES: Comments Due Date: August 28, 2006.

ADDRESSES: Lillian Deitzer, Reports Management Officer, AYO, Department of Housing and Urban Development, 451 Seventh Street, Southwest, Washington, DC 20410; e-mail Lillian_Deitzer@HUD.gov; telephone (202) 708-2374. This is not a toll-free number. Copies of the proposed forms and other available documents submitted to OMB may be obtained from Mr. Deitzer.

FOR FURTHER INFORMATION CONTACT: Aneita Waites, (202) 708-0713, extension 4114, for copies of the proposed forms and other available documents. (This is not a toll-free number).

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Contract for Inspection Services-Turnkey.

OMB Approval Number: 2577-0007.

Form Numbers: HUD-5084.

Description of the Need for the Information and Its Proposed Use: Information is used by the PHA to obtain professional architectural services to assist in the administration of a construction contract and to inspect the installation of the work.

Respondents: Not-for-profit institutions, State, Local or Tribal Government.

Frequency of Submission: Other per applicant.

| Number of respondents | Annual responses | × | Hours per response | = | Burden hours
Reporting Burden | 76 | 76 |  | 2.00 |  | 152

Total Estimated Burden Hours: 152.

Status: Extension of a currently approved collection.

Authority: Section 3507 of the Paperwork Reduction Act of 1995, 44 U.S.C. 35, as amended.

Dated: June 23, 2006.
Sherry Fobear-McCown,
Program Analyst.

[FR Doc. 06-5819 Filed 6-28-06; 8:45 am]

BILLING CODE 4210-67-P